DEPARTMENT OF JUSTICE

Notice of Lodging of Consent Decree Under the Comprehensive Environmental Response, Compensation and Liability Act

Under 28 CFR 50.7, notice is hereby given that on May 2, 2007, a proposed consent decree with defendant F.A.G. Bearings LLC was lodged in the civil action United States v. F.A.G. Bearings LLC, Civil Action No. 3:07-cv-5036, in the United States District Court of the Western District of Missouri.

In this action the United States seeks, pursuant to Section 107 of the Comprehensive Environmental Response, Compensation and Liability Act (“CERCLA”), 42 U.S.C. 9607, natural resources damages and assessment costs incurred in response to releases of hazardous substances at the Newton County Wells Superfund Site (“the Site”), in Newton and Jasper counties, Missouri. The proposed consent decree will resolve the United States' natural resource damages claims against defendant F.A.G. Bearings LLC under Section 107 of CERCLA, 42 U.S.C. 9607, at the Site. Under the terms of the proposed consent decree, defendant F.A.G. Bearings will make cash payments of $6,739 and $130,724 to the United States. The funds will be paid to the Department of Interior's Natural Resource Damage and Restoration Fund.

In return, the United States will grant F.A.G. Bearings a covenant not to sue for natural resource damages under CERCLA with respect to the Site.

The Department of Justice will receive for a period of thirty (30) days from the date of this publication comments relating to the proposed consent decree. Comments should be addressed to the Assistant Attorney General, Environment and Natural Resources Division, P.O. Box 7611, U.S. Department of Justice, Washington, DC 20044-7611, and should refer to the proposed consent decree with defendant F.A.G. Bearings LLC in United States v. F.A.G. Bearings LLC, D.J. Ref. 90-11-3-08871.

The proposed consent decree may be examined at the office of the United States Attorney, 901 St. Louis, Suite 500, Springfield, Missouri 65806. During the public comment period, the Consent Decree may be examined on the following Department of Justice Web site: http://www.udoj.gov/enrd/Consent_Decrees.html and at the Consent Decree Library, P.O. Box 7611, U.S. Department of Justice, Washington, DC 20044-7611 or by faxing a request to Tonia Fleetwood, fax no. (202) 514-0097, phone confirmation number (202) 514-1547. In requesting a copy please refer to the referenced case and enclose a check in the amount of $4.50 (25 cents per page reproduction costs), payable to the U.S. Treasury.

Public comments may be submitted by e-mail to the following e-mail address: pubcomment-ees.enrd@usdoj.gov.

Robert E. Maher, Jr.,
Assistant Chief, Environmental Enforcement Section, Environmental and Natural Resources Division.

[FR Doc. 07-2412 Filed 5-16-07; 8:45 am]

BILLING CODE 4410-15-M